DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS); Subcommittee on Privacy and Confidentiality.

Time and Date: June 7, 2005, 9 a.m.-5 p.m.; June 8, 2005, 9 a.m.-5 p.m.

Place: Hubert H. Humphrey Building, Room 705-A, 200 Independence Ave, SW., Washington, DC 20201.

Status: Open.

Purpose: The meeting will focus on privacy and confidentiality issues related to electronic health records and the development of a National Health Information Network. On the first day the Subcommittee will hear from witnesses about the use of electronic health records and health information networks in other countries. The balance of the first day and the second day, the Subcommittee will hear from representatives of Regional Health Information Organizations (known as RHIOs or RHINOs), integrated health delivery systems, and health plans. There will be time set aside for members of the public to speak on the record on the afternoon of the first day.

Contact Person for More Information: Substantive program information as well as summaries of meetings and a roster of committee members may be obtained from Maya A. Bernstein, Lead Staff for Subcommittee on Privacy and Confidentiality, Office of the Assistant Secretary for Planning and Evaluation, 434E Hubert H. Humphrey Building, 200 Independence Avenue, SW., Washington, DC 20201; telephone (202) 690-7100; or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO) (4336) as soon as possible.

Dated: May 10, 2005.
James Scanlon,
Acting Deputy Assistant Secretary for Science and Data Policy, Office of the Assistant Secretary for Planning and Evaluation.

[FR Doc. 05-10248 Filed 5-23-05; 8:45 am]

BILLING CODE 4151-05-M